DEPARTMENT OF COMMERCE

National Oceanic and Atmospheric Administration

[RTID 0648-XA095]

New England Fishery Management Council; Public Meeting

AGENCY: National Marine Fisheries Service (NMFS), National Oceanic and Atmospheric Administration (NOAA), Commerce.

ACTION: Notice of public meeting.

SUMMARY: The New England Fishery Management Council (Council, NEFMC) will hold a two-day webinar meeting to consider actions affecting New England fisheries in the exclusive economic zone (EEZ). Due to federal and state travel restrictions and updated guidance from the Centers for Disease Control and Prevention regarding the new coronavirus, COVID-19, this meeting will be conducted entirely by webinar.

DATES: The webinar meeting will be held on Tuesday and Wednesday, April 14 and 15, 2020, beginning at 9 a.m. on April 14 and 8:30 a.m. on April 15.

ADDRESSES: All meeting participants and interested parties can register to join the webinar at https://register.gotowebinar.com/register/8766043774885604099.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, April 14, 2020

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, staff from the Atlantic States Marine Fisheries Commission (ASMFC), and representatives from NOAA General Counsel, NOAA's Office of Law Enforcement, the U.S. Coast Guard, the Northeast Trawl Advisory Panel, and the Advisory Committee to the U.S. Section of the International Commission for the Conservation of Atlantic Tunas. The Council then will receive a presentation on the NEFSC's State of the Ecosystem 2020 Report for New England, which will be followed by recommendations from the Council's Scientific and Statistical Committee on the report. The Ecosystem-Based Fishery Management (EBFM) Committee will be up next to provide an update on work related to stakeholder engagement and public information workshops focusing on EBFM and the approach used for the Council's example Fishery Ecosystem Plan (eFEP) for Georges Bank. Then, members of the public will have the opportunity to speak during an open comment period on issues that relate to Council business but are not included on the published agenda for this meeting. The Council asks the public to limit remarks to 3-5 minutes. These comments will be received through the webinar. A guide for how to publicly comment through the webinar is available on the Council website at https://www.nefmc.org/calendar/april-2020-council-meeting.

Following the lunch break, the Council will receive an update from staff at the Stellwagen Bank National Marine Sanctuary on sanctuary activities, as well as a presentation on the new NOAA Condition Report, which is triggering a review of the sanctuary's management plan. Next, the Council will receive a NEFSC report on the March 9-12, 2020 Red Hake Stock Structure Research Track Assessment peer review meeting and go directly into its Small-Mesh Multispecies (Whiting) Report, which will focus on updates to an action being considered to rebuild southern red hake. Finally, the Council will receive the Atlantic Herring Committee Report covering: (1) An update on Framework Adjustment 7 to the Atlantic Herring Fishery Management Plan (FMP), which is being developed to protect spawning herring on Georges Bank; (2) discussion on whether the Council should request that NOAA Fisheries send a letter to ASMFC outlining the differences between Council and ASMFC authorities related to Atlantic herring management; and (3) an update on Framework Adjustment 8, which includes fishing year 2021-23 specifications and possible adjustment of herring measures that potentially inhibit the Atlantic mackerel fishery from achieving optimum yield. The Council then will adjourn the formal meeting for the day and go into a closed session to discuss personnel issues.

Wednesday, April 15, 2020

The Council will begin the day with a briefing on NMFS's decision to reinitiate consultation on the 2012 Atlantic Sea Scallop Biological Opinion due to the scallop fishery exceeding its incidental take statement for turtles. The Scallop Committee Report with follow. The Council will approve the range of alternatives for Scallop Amendment 21, which is being developed to address: (1) Northern Gulf of Maine Management Area issues, (2) the Limited Access General Category (LAGC) possession limit, and (3) individual fishing quota (IFQ) transfers. Then, the Council will be briefed by GARFO on issues related to the Atlantic Large Whale Take Reduction Team, the North Atlantic Right Whale Biological Opinion, and the timeline for upcoming action. After that, the Council will discuss and initiate a framework action to require recreational charter/party vessels to submit required vessel trip reports (VTRs) electronically as eVTRs for all fisheries managed by the New England Council.

Following the lunch break, the Council will be presented with and discuss the Groundfish Catch Share Program Review Final Report. Then, the Council will bring up “other business” and take a short break if time allows. After that, the Council will conduct a formal public hearing on Groundfish Monitoring Amendment 23, which is under development to improve catch reporting in the commercial groundfish fishery. At the conclusion of the hearing, the Council will close out the meeting.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Authority: 16 U.S.C. 1801 et seq.

Dated: March 20, 2020.
Tracey L. Thompson,
Acting Deputy Director, Office of Sustainable Fisheries, National Marine Fisheries Service.

[FR Doc. 2020-06263 Filed 3-25-20; 8:45 am]

BILLING CODE 3510-22-P